DEPARTMENT OF THE INTERIOR

Minerals Management Service

Environmental Assessment (EA), Beaufort Sea Outer Continental Shelf (OCS) Deep-Penetration Seismic Survey—2007

AGENCY: Minerals Management Service (MMS), Interior.

ACTION: Notice of Availability of an Environmental Assessment and Finding of No Significant Impact.

SUMMARY: The Minerals Management Service (MMS) has prepared an environmental assessment (EA) for Shell Offshore, Inc's. (SOI) proposed seismic surveys in the Beaufort Sea Outer Continental Shelf (OCS) in 2007. The EA concludes that with required mitigation no significant adverse effects (40 CFR 1508.27) on the quality of the human environment would occur. Therefore MMS issued a Finding of No Significant Impact (FONSI). Based on the FONSI, MMS issued to SOI the Geological and Geophysical (G&G) Permit 2007-04, which contained mitigation measures to ensure that the Beaufort Sea's fish, wildlife, and Alaska Native subsistence resources would not be adversely impacted.

FOR FURTHER INFORMATION CONTACT: Minerals Management Service, Alaska OCS Region, 3801 Centerpoint Drive, #500, Anchorage, Alaska 99503-5820, Deborah Cranswick, telephone (907) 334-5267.

EA Availability: To obtain a copy of the EA and FONSI, you may contact the Minerals Management Service, Alaska OCS Region, Attention: Ms. Nikki Lewis, 3801 Centerpoint Drive, #500, Anchorage, Alaska 99503-5820, telephone (907) 334-5206. You may also view the EA, FONSI, and G&G permit (2007-04) on the MMS Web site at http://www.mms.gov/alaska/re/recentgg/RECENTGG.HTM.

Dated: September 17, 2007.
John T. Goll,
Regional Director, Alaska OCS Region.

[FR Doc. E7-22245 Filed 11-13-07; 8:45 am]

BILLING CODE 4310-MR-P